DEPARTMENT OF THE INTERIOR

Bureau of Indian Affairs

Indian Gaming

AGENCY: Bureau of Indian Affairs, Interior.

ACTION: Notice of approved tribal-state class III gaming compact.

SUMMARY: This Notice Publishes an Approval of the Economic Development Amendment for the Tribal-State Compact for the Regulation of Class III Gaming between the Tunica-Biloxi Tribe and the State of Louisiana.

DATES: Effective Date: January 31, 2006.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Pub. L. 100-497, 25 U.S.C. 2710, the Secretary of the Interior shall publish in the Federal Register notice of the Economic Development Amendment to the Tribal-State compacts for the purpose of engaging in class III gaming activities on Indian lands. This Economic Development Amendment provides for a grant of presumptive suitability for certain lenders solely in connection with and strictly limited to that certain offering of unsecured senior notes dated November 8, 2005. The Acting Principal Deputy Assistant Secretary—Indian Affairs, Department of the Interior, through his delegated authority, is publishing notice that the Economic Development Amendment to the Tribal-State compact between Tunica-Biloxi Tribe and the State of Louisiana is hereby approved and in effect.

Dated: January 20, 2006.
Michael D. Olsen,
Acting Principal Deputy Assistant Secretary—Indian Affairs.

[FR Doc. E6-1196 Filed 1-30-06; 8:45 am]

BILLING CODE 4310-4N-P